DEPARTMENT OF HEALTH AND HUMAN SERVICES

Centers for Disease Control and Prevention

[30Day-07-06AU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Formative Research on Issues Related to the Use of Mass Media in African-American Women: Phase II—New—National Center for Chronic Disease Prevention and Control (NCCDPHP), Centers for Disease Control and Prevention (CDC).

Background and Brief Description

Women's health programs, including the National Breast and Cervical Cancer Early Detection Program (NBCCEDP), offer low-cost or free breast cancer screening to uninsured, low-income women. In 1991, CDC established the NBCCEDP to increase breast and cervical cancer screening among uninsured, underserved, low-income women. To date, over 1.5 million women have received services from NBCCEDP-sponsored programs, yet NBCCEDP-sponsored programs are estimated to reach only 18% of women 50 years old and older who are eligible for screening services. Why women do not participate in this screening is not well understood. A research priority for the NBCCEDP is to identify effective strategies to increase enrollment among eligible women who have never received breast or cervical cancer screening.

CDC conducted a phase I study (OMB number 0920-0652) to investigate, through a series of eight focus groups in Macon and Savannah, Georgia, the reasons why women who were eligible for NBCCEDP services did or did not participate in the program. Respondents were low-income, African American women aged 40 to 64 years. The study also investigated viable sources, messages, and channels through which to reach this population with promotional messages about breast cancer screening.

The proposed phase II data collection will build on phase I activities. Eight additional focus groups will be conducted in Macon and Savannah, Georgia, to (1) test consumer response to concepts that arose in the Phase I formative research related to breast cancer screening, and (2) test a series of radio and print health messages aimed at increasing mammography screening among low-income African American women for cultural appropriateness. Respondents will be NBCCEDP-eligible African-American women aged 40-64 years. There are no costs to the respondents other than their time. The total estimated annualized burden hours are 175.

Estimated Annualized Burden Table
Type of respondent | Form name | Number of respondents | Number of responses per respondent | Average burden per response (in hours)
African American women, aged 40-64 years, GA residents | Recruitment Screener (initial) | 150 | 1 | 5/60
| Recruitment Screener (spot-check) | 24 | 1 | 5/60
| Pre-discussion Information Sheet | 80 | 1 | 30/60
| Informed Consent and Focus Group Discussion | 80 | 1 | 90/60

Dated: November 27, 2006.
Deborah Holtzman,
Reports Clearance Officer, Centers for Disease Control and Prevention.

[FR Doc. E6-20413 Filed 12-1-06; 8:45 am]

BILLING CODE 4163-18-P